DEPARTMENT OF TRANSPORTATION

Federal Aviation Administration

Notice of Passenger Facility Charge (PFC) Approvals and Disapprovals

AGENCY: Federal Aviation Administration (FAA), DOT.

ACTION: Monthly Notice of PFC Approvals and Disapprovals. In October 2014, there were eight applications approved. This notice also includes information on two applications, approved in September 2014, inadvertently left off the September 2014 notice. Additionally, 11 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: Westmoreland County Airport Authority, Latrobe, Pennsylvania.

Application Number: 14-03-C-00-LBE.

Application Type: Impose and use a PFC.

PFC Level: $4.50.

Total PFC Revenue Approved in This Decision: $382,641.

Earliest Charge Effective Date: March 1, 2016.

Estimated Charge Expiration Date: July 1, 2017.

Class of Air Carriers Not Required To Collect PFC's: None.

Brief Description of Projects Approved for Collection and Use:

Install runway 23 vertical/visual guidance system.

Master plan update.

Expand terminal parking.

Rehabilitate parallel taxiway phase 1 design.

Sustainable master plan.

Terminal improvements.

Terminal expansion design.

Rehabilitate parallel taxiway phase 2 construction.

Rehabilitate main terminal apron.

Brief Description of Withdrawn Project: Acquire snow removal equipment.

Date of Withdrawal: September 18, 2014.

Decision Date: September 29, 2014.

FOR FURTHER INFORMATION CONTACT: Lori Ledebohm, Harrisburg Airports District Office, (717) 730-2835.

Public Agency: Metropolitan Airports Commission, Minneapolis, Minnesota.

Application Number: 13-11-C-00-MSP.

Application Type: Impose and use a PFC.

PFC Level: $4.50.

Total PFC Revenue Approved In This Decision: $52,827,265.

Earliest Charge Effective Date: March 1, 2018.

Estimated Charge Expiration Date: October 1, 2018.

Class of Air Carriers Not Required To Collect PFC's: Air taxi/commercial operators filing FAA Form 1800-31.

Determination: Approved. Based on information contained in the public agency's application, the FAA has determined that the approved class accounts for less than 1 percent of the total annual enplanements at Minneapolis-St. Paul International Airport (MSP).

Brief Description of Projects Approved for Collection and Use at MSP at a $3.00 PFC Level:

Terminal 1—Lindbergh Concourse F pedestrian bridge rehabilitation.

Electronic video information display systems.

Runway 12R/30L service road tunnel improvements.

Aircraft rescue and firefighting station 2/building roof replacements.

Taxiway C extension.

Orange parking ramp skyway link/terminal expansion.

Brief Description of Projects Approved for Collection and Use at MSP at a $4.50 PFC Level:

Terminal 1—Lindbergh passenger boarding bridges replacement.

Perimeter fence/gate security improvements.

Runway 30L engineered materials arresting system replacement.

Terminal 2—Humphrey security checkpoint.

Terminal 2—Humphrey passenger boarding bridges replacement.

Brief Description Of Disapproved Projects:

Runway 30R maximum intensity approach lighting system with sequence flashers.

Determination: Disapproved. The FAA determined that the proposed project did not improve the visibility minimums for runway 30R. Therefore, the project did not meet the requirements of § 158.15(b).

Airport noise and operations monitoring system upgrades.

Determination: Disapproved. The FAA determined that the proposed upgrade was not addressing a deficiency in the existing noise monitoring system. Therefore, the project did not meet the requirements of § 158.15(b).

Decision Date: September 30, 2014.

FOR FURTHER INFORMATION CONTACT: Chris Hugunin, Minneapolis Airports District Office, (612) 253-4630.

Public Agency: Huntsville-Madison County Airport Authority, Huntsville, Alabama.

Application Number: 14-20-C-00-HSV.

Application Type: Impose and use a PFC.

PFC Level: $4.50.

Total PFC Revenue Approved in This Decision: $1,750,085.

Earliest Charge Effective Date: October 1, 2023.

Estimated Charge Expiration Date: August 1, 2024.

Classes of Air Carriers Not Required To Collect PFC'S:

(1) Air taxi/commercial operators filing FAA Form 1800-31, operating at Huntsville International Airport (HSV), and having fewer than 500 annual passenger enplanements; (2) certified air carriers filing Department of Transportation (DOT) Form T-100, operating at HSV, and having fewer than 500 annual enplanements; (3) certified route air carriers filing DOT Form T-100, operating at HSV, and having fewer than 500 annual passenger enplanements; and (4) foreign air carriers filing DOT Form T-100(f), operating at HSV, and having fewer than 500 annual passenger enplanements.

Determination: Approved. Based on information contained in the public agency's application, the FAA has determined that each approved class accounts for less than 1 percent of the total annual enplanements at HSV.

Brief Description of Project Approved for Collection and Use: Group VI airfield improvements 18L/36R.

Decision Date: October 2, 2014.

FOR FURTHER INFORMATION CONTACT: Matthew Felton, Jackson Airports District Office, (601) 664-9894, ext. 194.

Public Agency: Pee Dee Regional Airport Authority, Florence South Carolina.

Application Number: 14-02-C-00-FLO.

Application Type: Impose and Use a PFC.

PFC Level: $4.50.

Total PFC Revenue Approved in This Decision: $827,258.

Earliest Charge Effective Date: December 1, 2014.

Estimated Charge Expiration Date: February 1, 2018.

Class of Air Carriers Not Required To Collect PFC's: Air taxi/commercial operators filing FAA Form 1800-31 and operating at Florence Regional Airport (FLO).

Determination: Approved. Based on information contained in the public agency's application, the FAA has determined that the approved class accounts for less than 1 percent of the total annual enplanements at FLO.

Brief Description of Projects Approved for Collection:

Install an animal control fence.

General aviation terminal facility (design and construction).

Construct a new aircraft rescue and firefighting facility (design and construction).

Brief Description of Projects Approved for Collection and use:

Removal of airspace obstructions.

Terminal renovations reimbursement—design and construction.

Terminal apron reimbursement—design and construction.

Taxiways D, B, and E lighting and generator (phase II construction).

Upgrade airfield signage.

Perform wildlife assessment study.

Refurbish airfield storm water drainage systems (design and construction).

Purchase airfield pavement sweeper.

Master plan update.

Refurbish and upgrade the airport beacon.

Refurbish the airfield electrical vault.

Install a new airport wind cone.

PFC application development.

PFC administration.

Decision Date: October 20, 2014.

FOR FURTHER INFORMATION CONTACT: Robert Rau, Atlanta Airports District Office, (404) 305-7162.

Public Agency: Metropolitan Nashville Airport Authority, Nashville, Tennessee.

Application Number: 14-20-C-00-BNA.

Application Type: Impose and use a PFC.

PFC Level: $4.50.

Total PFC Revenue Approved In This Decision: $4,900,000.

Earliest Charge Effective Date: August 1, 2016.

Estimated Charge Expiration Date: November 1, 2016.

Class of Air Carriers Not Required To Collect PFC's: Air taxi/commercial operators filing FAA Form 1800-31 and operating at Nashville International Airport (BNA).

Determination: Approved. Based on information contained in the public agency's application, the FAA has determined that the approved class accounts for less than 1 percent of the total annual enplanements at BNA.

Brief Description of Projects Approved for Collection and Use at a $4.50 PFC Level:

Reconstruct taxiway T3.

Reconstruct taxiways L and J-east.

Decision Date: October 22, 2014.

FOR FURTHER INFORMATION CONTACT: Cynthia Wills, Memphis Airports District Office, (901) 322-8190.

Public Agency: City of Long Beach, California.

Application Number: 14-07-C-00-LGB.

Application Type: Impose and use a PFC.

PFC Level: $4.50.

Total PFC Revenue Approved in This Decision: $10,697,988.

Earliest Charge Effective Date: June 1, 2032.

Estimated Charge Expiration Date: April 1, 2034.

Class of Air Carriers Not Required To Collect PFC's: Non-scheduled/on-demand air carriers filing FAA Form 1800-31.

Determination: Approved. Based on information contained in the public agency's application, the FAA has determined that the approved class accounts for less than 1 percent of the total annual enplanements at Long Beach/Daugherty Field Airport.

Brief Description of Projects Approved for Collection and Use:

Reconstruction of air carrier apron—phases II and III.

Pavement management and maintenance program.

Airfield geometry study and strategic planning.

Runway 30 safety area improvements.

Runway 07L/25R rehabilitation.

Perimeter security improvements.

Terminal access road improvements.

PFC application and program administration.

Decision Date: October 24, 2014.

FOR FURTHER INFORMATION CONTACT: Darlene Williams, Los Angeles Airports District Office, (310) 725-3625.

Public Agency: Los Angeles World Airports, Los Angeles, California.

Application Number: 13-09-C-00-LAX.

Application Type: Impose and use a PFC.

PFC Level: $3.00.

Total PFC Revenue Approved in This Decision: $44,378,659.

Earliest Charge Effective Date: June 1, 2019.

Estimated Charge Expiration Date: October 1, 2019.

Class of Air Carriers Not Required To Collect PFC's: Air taxi/Commercial operators filing FAA Form 1800-31.

Determination: Approved. Based on information contained in the public agency's application, the FAA has determined that the approved class accounts for less than 1 percent of the total annual enplanements at Los Angeles International Airport.

Brief Description of Project Partially Approved for Collection and Use: Inglewood Unified School District soundproofing program.

Determination: Partially approved. The FAA determined that two schools (Inglewood High School and Hudnall Elementary School) proposed for inclusion in this project were not eligible for PFC funding. In addition, the FAA determined that two items of work (annual audit reports and ARUP consultants) were not eligible for PFC funding. Therefore, the approved PFC amount was reduced from the amount requested.

Decision Date: October 24, 2014.

FOR FURTHER INFORMATION CONTACT: Darlene Williams, Los Angeles Airports District Office, (310) 725-3625.

Public Agency: Greater Peoria Airport Authority, Peoria, Illinois.

Application Number: 15-06-C-00-PIA.

Application Type: Impose and use a PFC.

PFC Level: $4.50.

Total PFC Revenue Approved in This Decision: $11,708,250.

Earliest Charge Effective Date: February 1, 2015.

Estimated Charge Expiration Date: September 1, 2023.

Class of Air Carriers Not Required To Collect PFC'S: Non-scheduled/on-demand air carriers filing FAA Form 1800-31 that are operating at General Wayne A. Downing Peoria International Airport (PIA).

Determination: Approved. Based on information contained in the public agency's application, the FAA has determined that the approved class accounts for less than 1 percent of the total annual enplanements at PIA.

Brief Description of Projects Approved for Collection and Use:

Drainage improvements and slope stabilization.

Expand terminal parking lot.

Rehabilitate airport entrance road.

Snow removal equipment building.

Master plan and airport layout plan update.

PFC application costs.

Brief Description of Project Partially Approved for Collection and Use: Additional terminal gates/Federal Inspection Services.

Determination: Partially approved. The FAA determined that PFC eligibility is limited to the new gate facilities and general aviation facilities portion of the project.

Decision Date: October 24, 2014.

FOR FURTHER INFORMATION CONTACT: Michael Brown, Chicago Airports District Office, (847) 294-7195.

Public Agency: Border Coast Regional Airport Authority, Crescent City, California.

Application Number: 15-05-C-00-CEC.

Application Type: Impose and use a PFC.

PFC Level: $4.50.

Total PFC Revenue Approved in This Decision: $263,158.

Earliest Charge Effective Date: December 1, 2014.

Estimated Charge Expiration Date: February 1, 2021.

Class of Air Carriers Not Required To Collect PFC's: Non-scheduled/on-demand air carriers filing FAA Form 1800-31.

Determination: Approved. Based on information contained in the public agency's application, the FAA has determined that the approved class accounts for less than 1 percent of the total annual enplanements at Jack McNamara Field Airport.

Brief Description of Projects Approved for Collection and Use:

Runway safety area improvements—design.

Terminal building design—phase I.

Terminal building design—design phase II.

Decision Date: October 28, 2014.

FOR FURTHER INFORMATION CONTACT: Neil Kumar, San Francisco Airports District Office, (650) 827-7627.

Public Agency: Grand Forks Regional Airport Authority, Grand Forks, North Dakota.

Application Number: 15-10-C-00-GFK.

Application Type: Impose and use a PFC.

PFC Level: $4.50.

Total PFC Revenue Approved in This Decision: $1,867,720.

Earliest Charge Effective Date: January 1, 2019.

Estimated Charge Expiration Date: February 1, 2022.

Class of Air Carriers Not Required To Collect PFC's: Air taxi/Commercial operators filing FAA Form 1800-31 that are operating at Grand Forks International Airport (GFK).

Determination: Approved. Based on information contained in the public agency's application, the FAA has determined that the approved class accounts for less than 1 percent of the total annual enplanements at GFK.

Brief Description of Projects Approved for Collection and Use:

Purchase snow removal equipment.

Construct snow removal equipment building.

Construct aircraft rescue and fire fighting building.

Reconstruct taxiways A, B, and D intersection.

Decision Date: October 28, 2014.

FOR FURTHER INFORMATION CONTACT: Chris Hugunin, Minneapolis Airports District Office, (612) 253-4630.

Amendments to PFC Approvals
Amendment No. city, state | Amendment approved date | Original approved net PFC revenue | Amended approved net PFC revenue | Original estimated charge exp. date | Amended estimated charge exp. date
09-14-C-01-OAK, Oakland, CA | 09/26/14 | $293,219,000 | $396,564,898 | 04/01/21 | 01/01/28
08-14-C-03-BNA, Nashville, TN | 09/30/14 | 66,013,179 | 66,013,179 | 06/01/16 | 06/01/16
11-17-C-03-BNA, Nashville, TN | 09/30/14 | 2,797,105 | 2,722,105 | 06/01/17 | 04/01/17
13-19-C-01-BNA, Nashville, TN | 09/30/14 | 4,430,000 | 4,750,000 | 11/01/17 | 11/01/17
10-05-C-01-BIS, Bismarck, ND | 10/08/14 | 7,099,409 | 4,036,922 | 02/01/22 | 02/01/15
01-03-C-02-BFL, Bakersfield, CA | 10/10/14 | 9,086,000 | 10,526,514 | 12/01/17 | 01/01/21
10-05-C-01-CIC, Chico, CA | 10/10/14 | 590,000 | 7,569 | 12/01/16 | 12/01/14
12-10-C-01-LSE, La Crosse, WI | 10/14/14 | 2,665,657 | 4,175,370 | 01/01/23 | 05/01/28
08-14-C-04-BNA, Nashville, TN | 10/15/14 | 66,013,179 | 56,871,177 | 06/01/16 | 05/01/15
09-15-C-02-BNA, Nashville, TN | 10/15/14 | 6,196,434 | 4,314,382 | 09/01/16 | 09/01/16
10-03-C-02-DAL, Dallas, TX | 10/16/14 | 383,636,108 | 374,336,108 | 04/01/26 | 04/01/25

Issued in Washington, DC, on December 1, 2014.
Joe Hebert,
Manager, Financial Analysis and Passenger Facility Charge Branch.

[FR Doc. 2014-28535 Filed 12-3-14; 8:45 am]

BILLING CODE 4910-13-P